NUCLEAR REGULATORY COMMISSION

[Docket No. 40-8681]

International Uranium (USA) Corporation; Notice of Opportunity for Hearing

AGENCY: Nuclear Regulatory Commission.

ACTION: Final finding of no significant impact; notice of opportunity for hearing.

SUMMARY: The U.S. Nuclear Regulatory Commission (NRC) proposes to accept the license amendment for the NRC Materials License SUA-1358 to authorize the licensee, International Uranium (USA) Corporation (IUSA), to allow for the and reclamation of the White Mesa uranium mill, located near Blanding, Utah. An Environmental Assessment was performed by the NRC staff in accordance with the requirements of 10 CFR part 51. The conclusion of the Environmental Assessment is a Finding of No Significant Impact (FONSI) for the proposed licensing action.

FOR FURTHER INFORMATION CONTACT: Mr. William von Till, Fuel Cycle Licensing Branch, Division of Fuel Cycle Safety and Safeguards, Office of Nuclear Material Safety and Safeguards, U.S. Nuclear Regulatory Commission, Mail Stop T-8A33, Washington, DC 20555-0001. Telephone (301) 415-6251, e-mail rwv@nrc.gov.

SUPPLEMENTARY INFORMATION:

Background

Materials License SUA-1358 was originally issued by NRC on August 7, 1979, Pursuant to Title 10, Code of Federal Regulations (10 CFR), part 40, “Domestic Licensing of Source Material.” The IUC site is licensed by the U.S. Nuclear Regulatory Commission (NRC) under Materials License SUA-1358 to possess byproduct material in the form of uranium waste tailings and other uranium byproduct waste generated by the licensee's milling operations, as well as other source material from multiple locations. Some of these locations include material from Formerly Utilized Sites Remedial Action Program (FUSRAP) sites managed by the U.S. Army Corps of Engineers (USACE). These materials have similar chemical, physical, and radiological composition to conventional mill tailings. The mill is currently operating.

Summary of the Environmental Assessment

The NRC staff performed an appraisal of the environmental impacts associated with the receipt and processing of materials from the Molycorp facility at the White Mesa mill, in accordance with 10 CFR Part 51, Licensing and Regulatory Policy Procedure for Environmental Protection. In conducting its appraisal, the NRC staff considered the following: (1) Information contained in the previous environmental evaluations of the White Mesa project; (2) information contained in the IUSA's amendment application dated December 19, 2000, and supplemented by letters dated January 29, February 2, March 20, August 15, October 17, and November 16, 2001; (3) information derived from NRC staff site visits and inspections of the White Mesa mill site, and (4) from comments and conversations from the State of Utah Department of Environmental Quality (DEQ), and the U.S. Environmental Protection Agency (EPA). The results of the staff's appraisal are documented in an Environmental Assessment.

Conclusions

The NRC staff has examined the actual and potential environmental impacts associated with the receipt and processing of the proposed Molycorp material, and has determined that the action is (1) consistent with requirements of 10 CFR Part 40, (2) will not be inimical to the public health and safety, and (3) will not have long-term detrimental impacts on the environment. The following statements support the FONSI and summarize the conclusions resulting from the staff's environmental assessment:

1. An acceptable environmental and effluent monitoring program is in place to monitor effluent releases and to detect whether applicable regulatory limits are exceeded. Radiological effluents from site operations have been and are expected to continue to remain below the regulatory limits. A groundwater monitoring program is in place to detect potential seepage of contaminants from the tailings cells. The Entrada/Navajo Sandstone Aquifer is separated by low permeability formations from the tailings cells further decreasing a potential impact to groundwater resources. The Molycorp material will be placed on bermed concrete to reduce groundwater contamination while stored on the ore pad and an existing dust suppression program will be implemented at the Mill to reduce the potential for airborne contamination.

2. Present and potential environmental impacts from the receipt and processing of the Molycorp material were assessed. No increase in impacts has been identified as a result of this action, therefore, the staff has determined that the risk factors for health and environmental hazards are insignificant.

Alternatives to the Proposed Action

The action that the NRC is considering is approval of an amendment request to a source material license issued pursuant to 10 CFR part 40. The alternatives available to the NRC are:

1. Approve the license amendment request as submitted; or

2. Amend the license with such additional conditions as are considered necessary or appropriate to protect public health and safety and the environment; or

3. Deny the request.

Based on its review, the NRC staff has concluded that the environmental impacts associated with the proposed action do not warrant either the limiting of IUSA's future operations or the denial of the license amendment. The NRC staff has concluded that there are no significant environmental impacts associated with the proposed action. Therefore, alternatives with equal or greater impacts need not be evaluated. Additionally, in the Technical Evaluation Report prepared for this action, the staff has reviewed the licensee's proposed action with respect to the criteria for reclamation, specified in 10 CFR 40, Appendix A, and has no basis for denial of the proposed action. Therefore, the staff considers that Alternative 1 is the appropriate alternative for selection.

Finding of No Significant Impact

The NRC staff has prepared an Environmental Assessment for the proposed reclamation plan for NRC Source Material License SUA-1358. On the basis of this assessment, the NRC staff has concluded that the environmental impact that may result for the proposed action would not be significant, and therefore, preparation of an Environmental Impact Statement is not warranted.

The Environmental Assessment and other documents related to this proposed action amendment application are available for public inspection and copying at the NRC Public Document Room, US Nuclear Regulatory Commission Headquarters, Room 0-1F21, 11555 Rockville Pike, Rockville, MD 20852.

Notice of Opportunity for Hearing

The NRC hereby provides notice of an opportunity for a hearing on the license amendment under the provisions of 10 CFR part 2, subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, U.S. Nuclear Regulatory Commission, Washington, DC 20555-0001, Attention: Rulemakings and Adjudications Staff.

In accordance with 10 CFR 2.1205(f), each request for a hearing must also be served, by delivering it personally or by mail, to:

(1) The applicant, International Uranium (USA) Corporation, Independence Plaza, Suite 950, 1050 Seventeenth Street, Denver, Colorado 80265; Attention: Michelle Rehmann; and

(2) The NRC staff, by delivery to the Executive Director for Operations, One White Flint North, 11555 Rockville Pike, Rockville, MD 20852, or by mail addressed to the Executive Director for Operations, U.S. Nuclear Regulatory Commission, Washington, DC 20555-0001.

In addition to meeting other applicable requirements of 10 CFR part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to Michael Lesar, Chief, Rules and Directives Branch, Division of Administrative Services, Office of Administration, U.S. Nuclear Regulatory Commission, Washington, DC 20555-0001.

Dated at Rockville, Maryland, this 30th day of November 2001.
For the U.S. Nuclear Regulatory Commission.
Melvyn Leach,
Branch Chief, Fuel Cycle Licensing Branch, Division of Fuel Cycle Safety and Safeguards, Office of Nuclear Material Safety and Safeguards.

[FR Doc. 01-30610 Filed 12-10-01; 8:45 am]

BILLING CODE 7590-01-P